OFFICE OF PERSONNEL MANAGEMENT

Excepted Service; September 2017

AGENCY: Office of Personnel Management (OPM).

ACTION: Notice.

SUMMARY: This notice identifies Schedule A, B, and C appointing authorities applicable to a single agency that were established or revoked from September 1, 2017 to September 30, 2017.

FOR FURTHER INFORMATION CONTACT: Senior Executive Resources Services, Senior Executive Service and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management publishes a notice of agency-specific authorities established or revoked each month in the Federal Register at www.gpo.gov/fdsys/. OPM also publishes an annual notice of the consolidated listing of all Schedule A, B, and C appointing authorities, current as of June 30, in the Federal Register.

Schedule A

No schedule A authorities to report during September 2017.

Schedule B

No schedule B authorities to report during September 2017.

Schedule C

The following Schedule C appointing authorities were approved during September 2017.

Agency name | Organization name | Position title | Authorization No. | Effective date
DEPARTMENT OF AGRICULTURE | Farm Service Agency Office of the Secretary | State Executive Director—Washington Special Assistant | DA170190 DA170176 | 09/13/2017 09/19/2017
|  | Staff Assistant | DA170193 | 09/22/2017
| Office of the Assistant Secretary for Congressional Relations | Senior Advisor | DA170186 | 09/22/2017
BROADCASTING BOARD OF GOVERNORS | Broadcasting Board of Governors | Special Advisor for Strategy | IB170006 | 09/11/2017
DEPARTMENT OF DEFENSE | Office of the Under Secretary of Defense (Personnel and Readiness) | Special Assistant (Personnel and Readiness) | DD170223 | 09/12/2017
| Office of the Assistant Secretary of Defense (Asian and Pacific Security Affairs) | Special Assistant for East Asia | DD170225 | 09/14/2017
| Washington Headquarters Services | Staff Assistant Defense Fellow | DD170227 DD170226 | 09/22/2017 09/14/2017
| Office of the Assistant Secretary of Defense (Special Operations/Low Intensity Conflict) | Special Assistant for Special Operations and Combating Terrorism Special Assistant (Counternarcotic and Global Threats) | DD170229 DD180003 | 09/20/2017 09/21/2017
DEPARTMENT OF THE AIR FORCE | Office of Assistant Secretary Air Force for Financial Management and Comptroller | Financial Specialist | DF170013 | 09/06/2017
DEPARTMENT OF EDUCATION | Office for Civil Rights Office of Postsecondary Education | Attorney Adviser Confidential Assistant | DB170140 DB170137 | 09/05/2017 09/06/2017
| Office of Communications and Outreach | Confidential Assistant | DB170141 | 09/11/2017
DEPARTMENT OF ENERGY | Office of Assistant Secretary for Energy Efficiency and Renewable Energy | Senior Advisor | DE170189 | 09/06/2017
| Office of the Chief Information Officer | Special Assistant | DE170201 | 09/07/2017
| Office of Scheduling and Advance | Advance Lead | DE170215 | 09/07/2017
| Office of the Secretary | White House Liaison | DE170160 | 09/12/2017
| Office of Public Affairs | Director of Strategic Communications and Messaging | DE170221 | 09/20/2017
| Office of Science | Special Advisor (2) | DE170211 DE170210 | 09/22/2017 09/26/2017
ENVIRONMENTAL PROTECTION AGENCY | Office of the General Counsel | Senior Counsel Deputy General Counsel | EP170097 EP170095 | 09/12/2017 09/14/2017
| Region 7—Lenexa, Kansas | Deputy Regional Administrator | EP170093 | 09/22/2017
GENERAL SERVICES ADMINISTRATION | Federal Acquisition Service Office of Government-wide Policy | Executive Director Senior Advisor for Government wide Policy | GS170045 GS170050 | 09/01/2017 09/06/2017
DEPARTMENT OF HEALTH AND HUMAN SERVICES | Centers for Medicare and Medicaid Services | Senior Advisor | DH170309 | 09/06/2017
| Office of the Secretary | Special Assistant | DH170324 | 09/11/2017
| Office of the General Counsel | Advisor and Legal Counsel | DH170334 | 09/12/2017
| Office of the Assistant Secretary for Public Affairs | Senior Advisor | DH170333 | 09/26/2017
| Office of Intergovernmental and External Affairs | Regional Director, Denver, Colorado, Region VIII | DH170247 | 09/29/2017
DEPARTMENT OF HOMELAND SECURITY | Office of Partnership and Engagement Office of the Assistant Secretary for Public Affairs U.S. Citizenship and Immigration Services | Business Liaison Assistant Press Secretary Deputy Speechwriter Senior Policy Advisor | DM170284 DM170274 DM170278 DM170277 | 09/26/2017 09/28/2017 09/28/2017 09/28/2017
DEPARTMENT OF HOUSING AND URBAN DEVELOPMENT | Office of Field Policy and Management | Regional Administrator-Region 1 | DU170176 | 09/06/2017
|  | Regional Administrator | DU170177 | 09/14/2017
| Office of Community Planning and Development | Deputy Assistant Secretary for Economic Development | DU170180 | 09/19/2017
DEPARTMENT OF THE INTERIOR | United States Fish and Wildlife Service Secretary's Immediate Office | Advisor Senior Advisor for Strategic Communication and Outreach | DI170099 DI170114 | 09/06/2017 09/26/2017
|  | Senior Deputy Director, Office of Intergovernmental and External Affairs | DI170112 | 09/14/2017
| Assistant Secretary—Land and Minerals Management | Special Assistant | DI170116 | 09/14/2017
| Assistant Secretary—Policy, Management and Budget | Senior Advisor | DI170115 | 09/19/2017
DEPARTMENT OF JUSTICE | Office of the Associate Attorney General | Confidential Assistant | DJ170166 | 09/06/2017
| Office of the Attorney General | White House Liaison | DJ170172 | 09/15/2017
| Civil Division | Senior Counsel | DJ170187 | 09/28/2017
DEPARTMENT OF LABOR | Employment and Training Administration | Chief of Staff | DL170090 | 09/06/2017
| Office of Congressional and Intergovernmental Affairs | Senior Legislative Officer (2) Legislative Officer | DL170099 DL170107 DL170097 | 09/14/2017 09/22/2017 09/08/2017
| Office of the Secretary | Staff Assistant Special Assistant (2) | DL170100 DL170095 DL170108 DL170114 | 09/22/2017 09/11/2017 09/22/2017 09/22/2017
| Office of the Solicitor | Senior Counselor | DL170098 | 09/11/2017
| Office of Disability Employment Policy | Senior Advisor | DL170115 | 09/19/2017
| Office of the Assistant Secretary for Policy | Special Assistant | DL170106 | 09/26/2017
OFFICE OF NATIONAL DRUG CONTROL POLICY | Office of Public Affairs | Public Affairs Specialist | QQ170015 | 09/22/2017
OFFICE OF PERSONNEL MANAGEMENT | Congressional, Legislative, and Intergovernmental Affairs | Deputy Director | PM170050 | 09/06/2017
SMALL BUSINESS ADMINISTRATION | Office of the General Counsel | Deputy General Counsel | SB170064 | 09/29/2017
DEPARTMENT OF STATE | Office of the Secretary | Special Assistant | DS170192 | 09/01/2017
| Bureau of Legislative Affairs | Special Assistant | DS170196 | 09/07/2017
| Office of the Chief of Protocol | Protocol Officer (Visits) | DS170198 | 09/08/2017
| Office of Policy Planning | Senior Advisor | DS170158 DS170193 | 09/11/2017 09/19/2017
|  | Staff Assistant | DS170208 | 09/29/2017
|  | Special Advisor | DS170209 | 09/29/2017
DEPARTMENT OF TRANSPORTATION | Office of the Secretary | White House Liaison Special Assistant | DT170143 DT170130 | 09/06/2017 09/26/2017
| Office of the General Counsel | Legal Advisor | DT170149 | 09/28/2017
DEPARTMENT OF THE TREASURY | Office of the Executive Secretary | Special Assistant | DY170173 | 09/29/2017

The following Schedule C appointing authorities were revoked during September 2017.

Agency name | Organization name | Position title | Request No. | Date vacated
DEPARTMENT OF AGRICULTURE | Office of the Assistant Secretary for Congressional Relations | Deputy Director for Intergovernmental Affairs | DA170145 | 09/02/2017
| Office of Rural Housing Service | Senior Advisor | DA160112 | 09/16/2017
DEPARTMENT OF COMMERCE | Office of Executive Secretariat | Confidential Assistant | DC170137 | 09/29/2017
DEPARTMENT OF DEFENSE | Office of the Secretary | Special Assistant to the Deputy Secretary of Defense | DD160084 | 09/01/2017
| Office of the Under Secretary of Defense (Comptroller) | Personal and Confidential Assistant to the Under Secretary of Defense (Comptroller) | DD150123 | 09/29/2017
| Office of the Secretary of Defense | Advance Officer | DD170164 | 09/30/2017
DEPARTMENT OF EDUCATION | Office of the Secretary | Confidential Assistant | DB170121 | 09/03/2017
DEPARTMENT OF HOMELAND SECURITY | Office of the Chief of Staff | Advance Representative | DM170133 | 09/15/2017
DEPARTMENT OF JUSTICE | Office of the Attorney General | White House Liaison | DJ170084 | 09/30/2017
DEPARTMENT OF LABOR | Office of the Secretary | Deputy Chief of Staff | DL170062 | 09/30/2017
DEPARTMENT OF STATE | Office of the Under Secretary for Management | Special Advisor | DS170186 | 09/28/2017
| Office of the Bureau of International Information Programs | Deputy Coordinator | DS170155 | 09/30/2017
EXPORT-IMPORT BANK | Office of the General Counsel | Senior Vice President and General Counsel | EB110009 | 09/02/2017
GENERAL SERVICES ADMINISTRATION | Office of the Administrator | White House Liaison | GS170016 | 09/02/2017
OFFICE OF MANAGEMENT AND BUDGET | Office of the Director | Special Assistant | BO170057 | 09/02/2017
OFFICE OF NATIONAL DRUG CONTROL POLICY | Office of National Drug Control Policy | Digital Engagement Specialist | QQ170002 | 09/08/2017

Authority: 5 U.S.C. 3301 and 3302; E.O. 10577, 3 CFR, 1954-1958 Comp., p. 218.

Kathleen M. McGettigan,
Acting Director, U.S. Office of Personnel Management.

[FR Doc. 2018-03512 Filed 2-20-18; 8:45 am]

BILLING CODE 6325-39-P